DEPARTMENT OF ENERGY

Federal Energy Regulatory Commission

Combined Notice of Filings #1

September 21, 2007.

Take notice that the Commission received the following electric rate filings:

Docket Numbers: ER06-200-000; ER07-254-000; ER07-460-000; ER05-534-000; ER05-365-000; ER05-1262-000; ER06-1093-000; ER05-332-000; ER07-287-000; ER07-242-000; ER04-94-000; ER05-1146-000; ER05-481-000; ER07-240-000.

Applicants: Big Horn Wind Project, LLC; Casselman Windpower, LLC; Dillon Wind, LLC; Eastern Desert Power, LLC, Elk River Wind, LLC, Flat Rock Windpower, LLC; Flat Rock Windpower II, LLC, Klondike Wind Power II, LLC; Klondike Wind Power III, LLC; MinnDakota Wind, LLC, Mountain View Power Partners III, LLC; Shiloh I Wind Project, LLC; Trimont Wind I, LLC; Twin Buttes Wind, LLC.

Description: Big Horn Wind Project, LLC, et al. notifies FERC that they do not currently engage in reporting of transactions to publishers of electricity or natural gas price indices.

Filed Date: 09/18/2007.

Accession Number: 20070919-0102.

Comment Date: 5 p.m. Eastern Time on Tuesday, October 9, 2007.

Docket Numbers: ER07-539-002; ER07-540-002.

Applicants: Niagara Mohawk Power Corporation.

Description: Niagara Mohawk Power Corp dba National Grid submits a second amendment to its 2/14/07 filings.

Filed Date: 09/19/2007.

Accession Number: 20070920-0114.

Comment Date: 5 p.m. Eastern Time on Wednesday, October 10, 2007.

Docket Numbers: ER07-1050-001.

Applicants: PJM Interconnection, LLC.

Description: PJM Interconnection, LLC submits their response to questions posed in the 8/17/07 Order concerning the capacity resource delisting process, and submits revisions to the PJM OATT.

Filed Date: 09/17/2007.

Accession Number: 20070920-0046.

Comment Date: 5 p.m. Eastern Time on Tuesday, October 9, 2007.

Docket Numbers: ER07-1172-001.

Applicants: Idaho Power Company.

Description: Idaho Power Company requests that the Commission accept their proposed use of the ICE Mid-C index in Schedules 4 and 10 of its Order 890 OATT filed on 7/13/07 in response to the 8/30/07 deficiency letter.

Filed Date: 09/17/2007.

Accession Number: 20070920-0045.

Comment Date: 5 p.m. Eastern Time on Tuesday, October 9, 2007.

Docket Numbers: ER07-1374-000.

Applicants: South Carolina Electric & Gas Company.

Description: South Carolina Electric & Gas Co submits an Industrial Tap Agreement with the City of Orangeburg, SC.

Filed Date: 09/14/2007.

Accession Number: 20070918-0137.

Comment Date: 5 p.m. Eastern Time on Friday, October 5, 2007.

Docket Numbers: ER07-1385-000.

Applicants: Entergy Services, Inc.

Description: Entergy Operations, Inc., et al. submit their First Revised Rate Schedule 435, etc.

Filed Date: 09/17/2007.

Accession Number: 20070920-0049.

Comment Date: 5 p.m. Eastern Time on Tuesday, October 9, 2007.

Docket Numbers: ER07-1386-000.

Applicants: Tatanka Wind Power, LLC

Description: Application of Tatanka Wind Power, LLC for order accepting market-based rate tariff, granting authorizations and blanket authority, and waiving certain requirements.

Filed Date: 09/17/2007.

Accession Number: 20070920-0048.

Comment Date: 5 p.m. Eastern Time on Tuesday, October 9, 2007.

Docket Numbers: ER07-1387-000.

Applicants: Maine Electric Power Company, Inc.

Description: Maine Electric Power Co, Inc and ISO New England, Inc. submits a revised Attachment H of the OATT.

Filed Date: 09/17/2007.

Accession Number: 20070920-0047.

Comment Date: 5 p.m. Eastern Time on Friday, September 28, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Director.

[FR Doc. E7-19283 Filed 9-28-07; 8:45 am]

BILLING CODE 6717-01-P